DEPARTMENT OF EDUCATION

Rehabilitation Short-Term Training

AGENCY: Office of Special Education and Rehabilitative Services, Department of Education.

ACTION: Notice of proposed priority.

SUMMARY: The Assistant Secretary for the Office of Special Education and Rehabilitative Services proposes a priority under the Rehabilitation Short-Term Training program. The Assistant Secretary may use this priority for competitions in fiscal year (FY) 2002 and in later years. We take this action to focus on training in areas of national need. We intend the priority to improve the leadership among top-level managers and administrators of the State Vocational Rehabilitation Services Program.

DATES: We must receive your comments on or before September 5, 2001.

ADDRESSES: Address all comments about this proposed priority to Sylvia Johnson, U.S. Department of Education, 400 Maryland Avenue, SW., room 3318, Switzer Building, Washington, DC 20202-2649. If you prefer to send your comments through the Internet, use the following address: Sylvia.Johnson@ed.gov.

You must include the term “Short-Term Training Program” in the subject line of your electronic message.

FOR FURTHER INFORMATION CONTACT: Sylvia Johnson. Telephone: (202) 205-9312 or via Internet: Sylvia.Johnson@ed.gov.

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority. We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 3414, Switzer Building, 330 C Street SW., Washington, DC, between the hours of 8:30 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, you may call (202) 205-8113 or (202) 260-9895. If you use a TDD, you may call the Federal Information Relay Service (FIRS) at 1-800-877-8339.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority we are particularly interested in applications that meet the invitational priority. However, we do not give an application that meets the priority a competitive or absolute preference over other applications (34 CFR 75.105(c)(1)).

Priority

National Rehabilitation Leadership Institute

Background

The authority for us to establish training priorities under the Rehabilitation Short-Term Training program by reserving funds to support particular training activities is in section 302 of the Rehabilitation Act of 1973, as amended (the Act) (29 U.S.C. 772). Under this program we make awards to public agencies and private agencies and organizations, including institutions of higher education, Indian tribes, and tribal organizations. This program is designed for the support of special seminars, institutes, workshops, and other short-term courses in technical matters relating to the vocational, medical, social, and psychological rehabilitation programs, independent living services programs, and client assistance programs.

The State Vocational Rehabilitation Services Program continues to undergo significant change. In addition to serving increased numbers of individuals with significant disabilities, the vocational rehabilitation (VR) programs are seeking to reach unserved and underserved populations, including individuals from linguistically and culturally diverse backgrounds. In their efforts to improve the employment outcomes of the individuals they serve, State VR agencies must remain alert to this ever-changing environment. For example, State VR agencies regularly analyze their practices, policies, and procedures and make adjustments that will promote responsive service delivery. In addition, State VR agencies are increasingly recognizing that their success in promoting the employment of their consumers depends in part on the strength of their linkages with employers and with generic employment and training programs.

The changed environment of State VR agencies demands a different set of skills from leaders and managers than has traditionally been required. Managers and leaders in the VR system need to develop new skills that will enable them, for example, to change their agencies' focus from processes and compliance to the achievement of high-quality outcomes and to build working relationships with organizations outside their agencies.

Elements of a VR Leadership Training Program

To have maximum utility to administrators in the State VR Services Program, a leadership training program must include training in leadership skills that includes periodic reinforcement and feedback to participants, application of leadership skills to VR issues, and provision of training in a peer setting. Many skills associated with effective leadership can be taught, given sufficient instruction, practice, and feedback on performance.

Effective skills training uses a strategy of repeated practice over time with feedback on performance. In the training arena, this often translates into providing a series of training programs. The time between training programs is used for practicing newly learned skills. Subsequent events allow for feedback by instructors and peers on their efforts. For example, an institute may propose a series of short courses (several days each) over the course of a year, each building upon the other. The time between the courses would be used to try out new techniques and exercise new skills. At the next course, experiences may be discussed to allow the instructors to provide feedback. The instructors then would move on to new topics. It is a progressive learning technique that has proven effective, especially when training busy professionals such as rehabilitation administrators. There also may be a “pick and choose” series of courses from which a given administrator, in concert with a training specialist on the grantee's staff, could select to develop a “customized” program of learning. Efforts such as these have proven to be effective in programs designed for busy professionals.

The second element of effective VR leadership training is the application of training to actual issues. This approach both helps trainees solve real problems and relates to a long-held principle of adult learning: Adults learn most effectively when the content of the training is directly related to issues they face. Within VR, new policies, initiatives, and legislation will require top administrators and directors to make major changes in procedures and practices within their agencies. Tying the content of leadership training to these types of issues makes the training in leadership skills more effective and helps solve real world problems.

The third element of effective leadership training is the provision of training in a peer setting. A well-tested management principle relates to the benefits of working in teams with others who face similar situations. Group, as opposed to individual, examination of issues often reveals a wider range of options for addressing those issues and results in better solutions.

Leadership skills, like all skills, can improve over time. Therefore, we consider progressive levels of leadership training programs, such as courses for new directors, programs for administrators and directors with various levels of experience, and seminars for seasoned administrators and directors, essential to meeting the diverse needs of VR administrators and directors.

We have determined that it is in the best interest of the State VR Services Program to provide leadership skills training through one national institute. Having one institute lends consistency in the quality and content of training and better enables us to monitor the quality and relevance of the training. We intend to be involved with the grantee to provide direction and technical assistance on the content of the training.

To expand the funding base for the project and to encourage State agencies to contribute to the costs of training, we are proposing that participants be required to provide some level of contribution for training.

In summary, we have determined that it is in the best interest of the State VR Services Program to develop a leadership training program that focuses on leadership skills as applied to the unique issues facing the VR agencies in a peer setting. Progressive levels of training are needed to meet the varying needs of administrators and directors. One institute would ensure consistency in training and provide for better quality control. State agencies would be required to provide some degree of support to the program.

Proposed Priority: We propose to fund one project to establish a National Rehabilitation Leadership Institute that will focus on developing the leadership skills of top-level managers and administrators in State VR agencies. The project must have plans for addressing the leadership needs in all VR agencies funded under the Act and programs funded under section 121 of the Act.

The project must employ a curriculum that focuses on the development of leadership skills and on the application of those skills to current challenges and issues in the VR program. The project must be capable of structuring leadership curricula around current VR issues of national significance, such as using VR evaluation standards and performance indicators to assess and improve agency performance, coordinating effectively with generic employment and training programs, and increasing client choice. The advisory committee (described later in this notice) and the Assistant Secretary will determine actual issues.

The project must employ a curriculum that includes several levels of training to meet the needs of audiences ranging from new State administrators and directors to seasoned administrators and directors. The project's curriculum must include sequential courses that allow for repeated practice of newly learned skills over time, with performance feedback. The project must provide training in a peer setting.

The project must coordinate its training activities with activities conducted under the State Vocational Rehabilitation Unit In-Service Training program, the Rehabilitation Continuing Education Program, and the National Technical Assistance Centers funded by the Rehabilitation Services Administration (RSA). These programs are also charged with improving the leadership skills of State agency personnel. Therefore, collaboration and coordination are necessary.

The project must establish an advisory committee that includes RSA central and regional office representatives, representatives of State VR agency administrators and trainers, rehabilitation counselors, VR clients, Regional Continuing Education Centers, other educators and trainers of VR personnel, tribes and tribal agencies, and others as determined to be appropriate by the grantee and RSA. This committee must provide substantial input on and direction to the training curriculum, including the specific VR issues to be incorporated.

The project must include an evaluation component based upon clear, specific performance and outcome measures. The results must be reported in its annual progress report.

The project must be designed to ensure that State agencies will contribute to the costs of the participant's training.

National Education Goals

The eight National Education Goals focus the Nation's education reform efforts and provide a framework for improving teaching and learning.

This proposed priority would address the National Education Goal that every adult American will be literate and will possess the knowledge and skills necessary to compete in a global economy and exercise the rights and responsibilities of citizenship.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 390.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number: 84.246D, Rehabilitation Short-Term Training)

Program Authority: 29 U.S.C. 772.

Dated: July 31, 2001.
Francis V. Corrigan,
Deputy Director, National Institute on Disability and Rehabilitation Research.

[FR Doc. 01-19528 Filed 8-3-01; 8:45 am]

BILLING CODE 4000-01-P